DEPARTMENT OF ENERGY

10 CFR Part 430

[EERE-2019-BT-TP-0024]

RIN 1904-AE51

Energy Conservation Program: Test Procedures for Consumer Products; Early Assessment Review: Ceiling Fan Light Kits

AGENCY: Office of Energy Efficiency and Renewable Energy, Department of Energy.

ACTION: Request for information.

SUMMARY: The U.S. Department of Energy (“DOE”) is undertaking an early assessment review to determine whether amendments are warranted for the test procedure for ceiling fan light kits (“CFLKs”). DOE has identified certain issues associated with the currently applicable test procedure on which DOE is interested in receiving comment. The issues outlined in this document mainly concern updating currently referenced industry standards to their latest versions. DOE welcomes written comments from the public on any subject within the scope of this document, including topics not raised in this request for information (“RFI”).

DATES: Written comments and information are requested and will be accepted on or before June 3, 2021.

ADDRESSES: Interested persons are encouraged to submit comments using the Federal eRulemaking Portal at http://www.regulations.gov. Follow the instructions for submitting comments. Alternatively, interested persons may submit comments by email to the following address: CFLK2019TP0024@ee.doe.gov. Include “Ceiling Fan Light Kit Test Procedure Request For Information” and docket number EERE-2019-BT-TP-0024 and/or RIN number 1904-AE51 in the subject line of the message. Submit electronic comments in WordPerfect, Microsoft Word, PDF, or ASCII file format, and avoid the use of special characters or any form of encryption.

Although DOE has routinely accepted public comment submissions through a variety of mechanisms, including postal and hand delivery/courier, the Department has found it necessary to make temporary modifications to the comment submission process in light of the ongoing Covid-19 pandemic. DOE is currently accepting only electronic submissions at this time. If a commenter finds that this change poses an undue hardship, please contact Appliance Standards Programs staff at (202) 586-1445 to discuss the need for alternative arrangements. Once the Covid-19 pandemic health emergency is resolved, DOE anticipates resuming all of its regular options for public comment submission, including postal mail and hand delivery/courier.

No telefacsimilies (faxes) will be accepted. For detailed instructions on submitting comments and additional information on this process, see section III of this document (Submission of Comments).

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at: http://www.regulations.gov/docket?D=EERE-2019-BT-TP-0024. The docket web page contains instructions on how to access all documents, including public comments, in the docket. See section III of this document for information on how to submit comments through http://www.regulations.gov.

FOR FURTHER INFORMATION CONTACT: Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority

B. Rulemaking History

II. Request for Information

A. Scope and Definitions

B. Test Procedure

1. IES LM-9

2. IES LM-79

III. Submission of Comments

I. Introduction

DOE established an early assessment review process to conduct a more focused analysis that would allow DOE to determine, based on statutory criteria, whether an amended test procedure is warranted. 10 Code of Federal Regulations (“CFR”) part 430 subpart C appendix A section 8(a). This RFI requests information and data regarding whether an amended test procedure would more accurately and fully comply with the requirement that the test procedure produce results that measure energy use during a representative average use cycle or period of use for the product, and not be unduly burdensome to conduct. To inform interested parties and to facilitate this process, DOE has identified several issues associated with the currently applicable test procedures on which DOE is interested in receiving comment. Based on the information received in response to the RFI and DOE's own analysis, DOE will determine whether to proceed with a rulemaking for an amended test procedure.

If DOE makes an initial determination that an amended test procedure would more accurately or fully comply with statutory requirements, or DOE's analysis is inconclusive, DOE would undertake a rulemaking to issue an amended test procedure. If DOE makes an initial determination based upon available evidence that an amended test procedure would not meet the applicable statutory criteria, DOE would engage in notice and comment rulemaking before issuing a final determination that an amended test procedure is not warranted.

A. Authority

The Energy Policy and Conservation Act, as amended (“EPCA”),¹ among other things, authorizes DOE to regulate the energy efficiency of a number of consumer products and certain industrial equipment. (42 U.S.C. 6291-6317) Title III, Part B ² of EPCA established the Energy Conservation Program for Consumer Products Other Than Automobiles. These products include CFLKs, the subject of this document. (42 U.S.C. 6291(50), 42 U.S.C. 6293(b)(16)(A)(ii), 42 U.S.C. 6295(ff)(2)-(5))

¹ All references to EPCA in this document refer to the statute as amended through the Energy Act of 2020, Public Law 116-260 (Dec. 27, 2020).

² For editorial reasons, upon codification in the U.S. Code, Part B was redesignated Part A.

Under EPCA, DOE's energy conservation program consists essentially of four parts: (1) Testing, (2) labeling, (3) Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

Federal energy efficiency requirements for covered products established under EPCA generally supersede State laws and regulations concerning energy conservation testing, labeling, and standards. (42 U.S.C. 6297(a)-(c)) DOE may, however, grant waivers of Federal preemption in limited instances for particular State laws or regulations, in accordance with the procedures and other provisions set forth under 42 U.S.C. 6297(d).

EPCA also requires that, at least once every 7 years, DOE evaluate test procedures for each type of covered product, including CFLKs, to determine whether amended test procedures would more accurately or fully comply with the requirements for the test procedures to not be unduly burdensome to conduct and be reasonably designed to produce test results that reflect energy efficiency, energy use, and estimated operating costs during a representative average use cycle or period of use. (42 U.S.C. 6293(b)(1)(A)) DOE is publishing this RFI to collect data and information to inform its decision to satisfy the 7-year-lookback review requirement.

B. Rulemaking History

On December 24, 2015, DOE published a final rule (“December 2015 Final Rule”) making two key updates to its CFLK test procedure. 80 FR 80209. First, DOE updated the CFLK test procedure to require that representations of efficacy, including certifications of compliance with CFLK standards, be made according to the corresponding DOE lamp test procedures, where they exist (e.g., for a CFLK with medium screw base sockets that is packaged with compact fluorescent lamps (“CFLs”), the CFLK test procedure references the DOE test procedure for CFLs at 10 CFR 430.23(y)). 80 FR 80209, 80211. Second, DOE updated the CFLK test procedure by establishing in a separate appendix, i.e., appendix V1, the test procedure for CFLKs packaged with inseparable light sources that require luminaire efficacy testing (e.g., CFLKs with integrated solid state lighting (“SSL”) circuitry) and for CFLKs packaged with lamps for which DOE test procedures did not exist. 80 FR 80209, 80212. With these changes, the December 2015 Final Rule aligned CFLK requirements for measuring efficacy of lamps and/or light sources in CFLKs with current DOE lamp test procedures.

The December 2015 Final Rule also replaced references to superseded ENERGY STAR requirements with the latest versions of industry standards in appendix V, the test procedure for measuring system efficacy of the lamp and ballast platform. Additionally, for ease of reference, the final rule replaced references to ENERGY STAR requirements in existing CFLK standards contained in 10 CFR 430.32(s) with the specific requirements. 80 FR 80209, 80211. Further, in that final rule, DOE determined that it accounts for standby mode energy consumption of CFLKs under the efficiency metric for ceiling fans rather than under the CFLK efficiency metric; and therefore, did not specify a standby mode test procedure for CFLKs. 80 FR 80209, 80212.

Representations regarding CFLKs subject to the January 21, 2020 standards must be based on the amended test procedure, including appendix V1. See 80 FR 80209, 80220 and 81 FR 580 (January 6, 2016).

II. Request for Information

DOE is publishing this RFI to collect data and information during the early assessment review to inform its decision, consistent with its obligations under EPCA, as to whether the Department should proceed with an amended test procedure rulemaking, and if so, to assist in the development of proposed amendments. Accordingly, in the following sections, DOE has identified specific issues on which it seeks input to aid in its analysis of whether an amended test procedure for CFLKs would more accurately or fully comply with the requirement that the test procedure produces results that measure energy use during a representative average use cycle for the product, and not be unduly burdensome to conduct. DOE also welcomes comments on other issues relevant to its early assessment that may not specifically be identified in this document.

The current DOE test procedure for CFLK can be found at 10 CFR part 430, subpart B, Appendix V and Appendix V1. All CFLKs manufactured as of January 21, 2020 must be tested according to appendix V1. Because appendix V is no longer applicable, DOE is considering removing it. Accordingly, in the following sections, DOE focuses on identifying issues as they pertain to Appendix V1.

Issue 1: DOE requests comment on removal of appendix V, the test procedure required to be used for CFLKs with pin-based sockets that are manufactured on or after January 1, 2007, and prior to January 21, 2020.

A. Scope and Definitions

Appendix V1 establishes the test requirements to measure the energy efficiency of all CFLKs packaged with fluorescent lamps other than compact fluorescent lamps or general service fluorescent lamps, packaged with SSL products other than integrated light-emitting diode (“LED”) lamps, or with integrated SSL circuitry. To support the test procedure for CFLKs the following terms are defined in Appendix V1: “CFLK with integrated SSL circuitry,” “covers,” “other (non-CFL and non-GSFL) fluorescent lamp,” “other SSL products,” and “solid-state Lighting (SSL).”

B. Test Procedure

The current DOE test procedure for CFLKs in Appendix V1 specifies instructions for measuring the lamp efficacy or luminaire efficacy, as applicable. Appendix V1 incorporates by reference IES LM-9-09 ³ (2009 version) for testing “other fluorescent lamps” (i.e., not CFLs or general service fluorescent lamps (“GSFLs”)) and IES LM-79-08 ⁴ (2008 version) for testing “other SSL products” (i.e., not integrated LED lamps) and CFLKs with integrated SSL circuitry. Appendix V1 references the industry standards for test conditions and measurements. These referenced industry test standards have been updated by industry since DOE last amended its test procedures. IES LM-9-09 has been updated with a 2020 version ⁵ (ANSI/IES LM-9-20) and the 2008 version of IES LM-79 (IES LM-79-08) has been updated with a 2019 version ⁶ (ANSI/IES LM-79-19). In the following sections, DOE requests information on how the changes in the updated versions of these standards would impact DOE's test procedure for CFLKs.

³ Illuminating Engineering Society, IES LM-9-09 IES Approved Method: Electrical and Photometric Measurement of Fluorescent Lamps. Approved January 31, 2009.

⁴ Illuminated Engineering Society, LM-79-08 IES Approved Method: Electrical and Photometric Measurements of Solid-State Lighting Products. Approved December 31, 2007.

⁵ Illuminating Engineering Society, ANSI/IES LM-9-2020—Approved Method: Electrical and Photometric Measurements of Fluorescent Lamps. Approved February 7, 2020.

⁶ Illuminating Engineering Society, ANSI/IES LM-79-2019—Approved Method: Optical and Electrical Measurements of Solid-State Lighting Products. Approved February 28, 2019.

1. IES LM-9

IES LM-9 provides methods for taking electrical and photometric measurements of fluorescent lamps. DOE's initial review indicates no major changes in ANSI/IES LM-9-20 compared to IES LM-9-09 except for updates to certain relevant references. Section 6.2 of IES LM-9-2020 updates its reference of IES LM-54, the industry standard for lamp seasoning, from the 1999 version ⁷ (IESNA LM-54-99) to 2020 version ⁸ (ANSI/IES LM-54-20). Section 7.0 of ANSI/IES LM-9-20 updates its references of IES LM-78, the industry standard for measurements in an integrating sphere, from the 2007 version ⁹ (IESNA LM-78-07) to the 2020 version ¹⁰ (ANSI/IES LM-78-20). These updates are discussed in the following sections.

⁷ Illuminating Engineering Society of North America, LM-54-99 IESNA Guide to Lamp Seasoning, Approved May 10, 1999.

⁸ Illuminating Engineering Society, ANSI/IES LM-54-20 Approved Method: IES Guide to Lamp Seasoning, Approved February 7, 2020.

⁹ Illuminating Engineering Society of North America, IESNA LM-78-07 IESNA Approved Method for Total Luminous Flux Measurement of Lamps Using an Integrating Sphere Photometer. Approved January 28, 2007.

¹⁰ Illuminating Engineering Society, ANSI/IES LM-78-20 Approved Method: Total Luminous Flux Measurement of Lamps Using an Integrating Sphere Photometer. Approved February 7, 2020.

IES LM-54

DOE identified several changes in ANSI/IES LM-54-20 compared to the IESNA LM-54-99. ANSI/IES LM-54-20 adds a section on physical environment test conditions that cover topics such as keeping labs clean and within the ambient temperature range; not subjecting lamps to excessive vibration/shock; and using airflow to cool the seasoning area. ANSI/IES LM-54-20 also adds a section on electrical test conditions which includes instructions on frequency, voltage wave shape, voltage regulation, basic lamp connection protocols, and setting up an adjacent ground for fluorescent lamps. Additionally, ANSI/IES LM-54-20 includes a new section on test preparation which addresses how to handle and mark lamps. Finally, ANSI/IES LM-54-20 adds a statement expressly stating that the orientation of the lamp during seasoning should be maintained for the entire test.

Issue 2: DOE requests information and test data, if available, on any potential differences in testing under ANSI/IES LM-54-20 referenced in IES LM-9-20 and the resulting measurements of efficacy, as compared to efficacy as measured under IESNA LM-54-99 currently referenced by IES LM-9-09. Please specify the updates in ANSI/IES LM-54-20 compared to IESNA LM-54-99 that can result in changes to measured efficacy values and by how much the values will change.

IES LM-78

DOE identified several changes in ANSI/IES LM-78-20 as compared to IESNA LM-78-07. ANSI/IES LM-78-20 includes a new section on taking measurements with a spectroradiometer within a sphere. ANSI/IES LM-78-20 also provides specific sections on 2π and 4π geometry. For 4π geometry, ANSI/IES LM-78-20 states the total surface area of the lamp should be less than 2 percent of the total area of the sphere wall. ANSI/IES LM-78-20 also adds an explanation on using sphere angular response distribution function (“SRDF”) to assess sphere responsivity. Further the equation to compute luminous flux now includes subtraction of dark/stray light, a ratio of spectral mismatch correction factor to self-absorption factor, and the sphere angular non-uniformity correction factor.

DOE also identified updates to specifications in the IESNA LM-78-07. ANSI/IES LM-78-20 states the sphere diameter shall be 1.5 times the length of a linear lamp whereas it was specified as 2 times the length in the 2007 version. ANSI/IES LM-78-20 also states for the degree of the spectral match to the V(λ) function, it is preferable that the value of the photometer be less than 3 percent, whereas it was less than 5 percent in IESNA LM-78-07. Throughout ANSI/IES LM-78-20 the term spatial luminous intensity is replaced with angular luminous intensity. Finally, in ANSI/IES LM-78-20, the uncertainty analysis section has been condensed to a list of potential sources of errors and references to other industry standards for guidance.

Issue 3: DOE requests information and test data, if available, on any potential differences in testing under ANSI/IES LM-78-20 referenced in section 7.0 of ANSI/IES LM-9-20 and the resulting measurements of efficacy, as compared to efficacy as measured under IESNA LM-78-07 currently referenced by IES LM-9-09. Please specify the updates in ANSI/IES LM-78-20 compared to IESNA LM-78-07 that can result in changes to measured efficacy values and by how much the values will change.

Issue 4: DOE requests information and test data, if available, on any potential differences in testing under ANSI/IES LM-9-20 and the resulting measurements of efficacy, as compared to efficacy as measured under IES LM-9-09 currently incorporated by reference. Please specify the updates in ANSI/IES LM-9-20 compared to IES LM-9-09 that can result in changes to measured efficacy values and by how much the values will change.

Issue 5: DOE seeks comment on any differences in testing costs associated testing under ANSI/IES LM-9-20 compared to IES LM-9-09.

2. IES LM-79

I ES LM-79 provides methods for taking electrical and photometric measurements of SSL products. DOE's initial review indicates several key changes in ANSI/IES LM-79-19 compared to IES LM-79-08. Regarding testing conditions, ANSI/IES LM-79-19 changes the tolerance of ambient temperature to +/- 1.2 degrees Celsius measured not more than 1.5 meters from the test lamp, whereas in IES LM-79-08, it specified +/- 1 degree Celsius and measured from not more than 1 meter.

For instrumentation, ANSI/IES LM-79-19 requires the alternating current (“AC”) power analyzer to have a frequency range from direct current (“DC”) to at least 100 kilohertz (“kHz”) and for products with high-frequency components a frequency range of at least 1 megahertz (“MHz”). ANSI/IES LM-79-19 also adds current crest factor capability requirements for the AC power supply. Regarding power supply tolerances, the ANSI/IES LM-79-19 specifies: (1) The supplied frequency to have a tolerance of +/- 2 hertz (“Hz”) from the prescribed frequency; and (2) the AC voltage component of the DC regulated voltage to be less than 0.5 percent root mean square (“RMS”) of the DC regulated voltage.

IES LM-79-08 required that the calibration uncertainties of instruments for AC voltage and current be a minimum of 0.2 percent and for the AC power meter be a minimum of 0.5 percent. ANSI/IES LM-79-19 replaces these specifications with expanded uncertainty minimums of: (1) 0.4 percent for RMS AC voltage for 60 Hz sinusoidal waveform measurements; (2) 0.6 percent for RMS AC current for 0.5 Hz to 1 kHz range and 2 percent for 1 kHz to 100 kHz range; and (3) 1 percent for active AC power in the 0.5 Hz to 1 kHz range and 2 percent in the 1 kHz to 100 kHz range.

For test circuits, ANSI/IES LM-79-19 adds the following specifications: (1) Use of separate sense leads to avoid voltage drops; (2) resistance and capacitance of test circuit (excluding power supply) to be less than respectively 0.5 ohms and 1.5 nanofarads; and (3) the internal impedance of voltage measurement circuits (excluding the power meter) to be at least 1 megaohm.

For electrical measurements, ANSI/IES LM-79-19 specifies the tolerances intervals of +/- 0.5 percent for AC RMS voltage, +/- 0.2 percent for DC voltage and current. It also states optical and electrical waveforms should be analyzed to ensure measurement equipment is appropriate and addresses inrush currents ¹¹ and testing low voltage products.

¹¹ Some SSL products may experience inrush currents which are high instantaneous currents that occur when the power supply is turned on.

Regarding stability, ANSI/IES LM-79-19 states that to determine stability three readings of light output and electrical power must be taken at 10-minute intervals over 20 minutes. IES LM-79-08 required three readings taken at 15-minute intervals over 30 minutes. ANSI/IES LM-79-19 also clarifies that it is the average of the three measurements taken chronologically that should be used to determine the stabilization threshold. Additionally, unlike IES LM-79-08, ANSI/IES LM-79-19 no longer allows the use of alternative stabilization methods for measurements of a number of products of the same model.

Finally, ANSI/IES LM-79-19 condenses the section on the integrating sphere method and directly references IES LM-78-17,¹² the 2017 version of the industry standard for measurements in an integrating sphere. Further, ANSI/IES LM-79-19 specifies that the spectroradiometer system have a wavelength uncertainty within 0.5 nanometers. ANSI/IES LM-79-19 also specifies that for 2π geometry the total surface area of the test lamp internal to the sphere should be no more than 1 percent of the total surface area of the sphere.

¹² Illuminating Engineering Society of America, IES LM-78-17 Approved Method for Total Flux Measurement of Lamps Using an Integrating Sphere. Approved January 9, 2017.

Currently, appendix V1 references section 2 through 9.2 of IES LM-79-08. If the DOE proposes to adopt ANSI/IES LM-79-19, sections 4 through 6 and 7.2 would be referenced.

Issue 6: DOE requests information and test data, if available, on any potential differences in testing under ANSI/IES LM-79-19 and the resulting measurements of efficacy, as compared to efficacy as measured under IES LM-79-08 currently incorporated by reference. Please specify the updates in ANSI/IES LM-79-19 compared to IES LM-79-08 that could result in changes to measured efficacy values and by how much the values will change.

Issue 7: DOE seeks comment on any differences in testing costs associated testing under ANSI/IES LM-79-19 compared to IES LM-79-08.

Issue 8: DOE specifically requests information and test data, if available, on any potential differences in the measurement of efficacy when using a goniophotometer instead of an integrating sphere.

Issue 9: DOE requests information on industry test procedures for photometric and electrical measurements of non-integrated organic light-emitting diode lamps or any other SSL products not covered under ANSI/IES LM-79-19.

III. Submission of Comments

DOE invites all interested parties to submit in writing by the date specified in the DATES heading, comments and information on matters addressed in this RFI and on other matters relevant to DOE's early assessment of whether an amended test procedure for CFLKs is warranted and if so, what such amendments should be.

Submitting comments via http://www.regulations.gov. The http://www.regulations.gov web page requires you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email. Comments and documents submitted via email also will be posted to http://www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. No telefacsimiles (faxes) will be accepted.

Comments, data, and other information submitted to DOE electronically should be provided in PDF (preferred), Microsoft Word or Excel, WordPerfect, or text (ASCII) file format. Provide documents that are not secured, written in English, and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signing Authority

This document of the Department of Energy was signed on April 25, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 27, 2021.
Treena V. Garrett,
Federal Register Liaison Officer, U.S. Department of Energy.

[FR Doc. 2021-09045 Filed 5-3-21; 8:45 am]

BILLING CODE 6450-01-P